DEPARTMENT OF AGRICULTURE

Farm Service Agency

Request for Extension of a Currently Approved Information Collection

AGENCY: Farm Service Agency, USDA.

ACTION: Notice and request for comments.

SUMMARY: In accordance with the Paperwork Reduction Act of 1995, this Notice announces the intention of the Farm Service Agency (FSA) to request approval for information collection necessary to allow USDA's County Based Agency (CBA) customers to securely and confidently share data and receive services electronically. Authority for obtaining information from users is included in the Freedom to E-File Act, the Government Paperwork Elimination Act, and Electronic Signatures in Global and National Commerce Act (“E-SIGN”). This voluntary registration process will enable customers as well as CBA employees to register as authorized users and provide single sign-on capability for CBA on-line applications. The objectives of the registration process are to employ standardized methods for verifying the identity of CBA customers/partners and managing their credentials in support of electronic alternatives to traditional ink signatures and non-repudiation.

DATES: Comments on this notice must be received on or before September 10, 2002 to be assured consideration.

ADDITIONAL INFORMATION OR COMMENTS: Brent Trout, Accountant, Accounting Systems and Planning Staff, Kansas City Finance Office, Farm Service Agency, United States Department of Agriculture, STOP 8548; 6501 Beacon Drive, Kansas City, MO 64133, telephone number (816) 823-1119; or Internet e-mail, BETROUT@kcc.usda.gov.

SUPPLEMENTARY INFORMATION: Title: USDA Registration Form to Request Electronic Access Code.

OMB Control Number: 0560-0219.

Type of Request: Extension of a currently approved information collection.

Abstract: The USDA CBA's have developed a management and technical process that addresses user authentication and authorization prerequisites for providing services electronically. The process provides an electronic alternative to traditional ink signatures. The process is based on a one-time registration requirement for each CBA customer desiring access to any on-line services that require user authentication. Form AD-2016 (USDA Registration Form to Request Electronic Access Code) is to be used to collect the minimum information necessary to verify and validate the identity of the customer before issuing user access credentials. Time to complete the form will vary from an estimated 10 to 15 minutes depending upon the method option the customer chooses to submit the form.

Estimate of Burden: Public reporting burden for the collection of information is estimated to average 10 to 15 minutes (dependent on type of submission) per customer.

Respondents: Individual CBA Service Center Customers.

Estimated Number of Respondents: 1,100,000.

Estimated Number of Responses Per Respondent: 1.

Estimated Total Annual Burden on Respondents: 1,331,000.

Proposed topics for comment include: (a) Whether the collection of information is necessary for the proper performance of the functions of the agency, including whether the information will have practical utility; (b) the accuracy of the agencies' estimate of burden, including the validity of the methodology and assumptions used; (c) ways to enhance the quality, utility, and clarity of the information to be collected; or (d) ways to minimize the burden of the collection of the information on those who respond, including the use of appropriate automated, electronic, mechanical, or techniques or other forms of information technology.

Comments should be sent to the Desk Officer for Agriculture, Office of Information and Regulatory Affairs, Office of Management and Budget, Washington, DC 20503, and to Brent Trout, Accountant, Accounting Systems and Planning Staff, Kansas City Finance Office, Farm Service Agency, United States Department of Agriculture, STOP 8548; 6501 Beacon Drive, Kansas City, MO 64133, telephone number (816) 823-1119. Copies of the information collection may be obtained from Mr. Trout at the address above, or from a link at the FSA Web site at www.fsa.usda.gov. All responses to this notice will be summarized and included in the request for OMB approval. All comments will become a matter of public record.

Signed at Washington, DC, on June 28, 2002.
James R. Little,
Administrator, Farm Service Agency.

[FR Doc. 02-17598 Filed 7-11-02; 8:45 am]

BILLING CODE 3410-05-P